ENVIRONMENTAL PROTECTION AGENCY

[EPA-HQ-OPP-2025-1906; FRL-12954-01-OCSPP]

Agency Information Collection Activities; Proposed New Collection and Request for Comment; Process To Become an EPA Qualified Conservation Program (QCP) and Qualified External Party (QEP); Draft Pesticide Registration Notice

AGENCY: Environmental Protection Agency (EPA).

ACTION: Notice.

SUMMARY: The EPA is announcing the availability of and seeking public comment on a draft Pesticide Registration Notice (PR Notice) entitled “Process to Become an EPA Qualified Conservation Program (QCP) and Qualified External Party (QEP).” PR Notices are issued by the Office of Pesticide Programs (OPP) to inform stakeholders about important policies, procedures, and registration related decisions, and serve to provide guidance to pesticide registrants and OPP personnel. This draft PR Notice seeks to inform interested parties of and to solicit public comment on the proposed process of becoming an EPA Qualified Conservation Program or EPA Qualified External Party. Additionally, in compliance with the Paperwork Reduction Act (PRA), the Agency is announcing the availability of and soliciting public comment on an Information Collection Request (ICR) that EPA is planning to submit to the Office of Management and Budget (OMB): “Process to Become an EPA Qualified Conservation Program (QCP) or EPA Qualified External Party (QEP)” (EPA ICR No. 7807.01 and OMB Control No. 2070-NEW). This ICR represents a new request. Before submitting the ICR to OMB for review and approval under the PRA, EPA is soliciting comments on specific aspects of the information collection that is summarized in this document. The ICR and accompanying material are available in the docket for public review and comment.

DATES: Comments must be received on or before March 2, 2026.

ADDRESSES: Submit your comments, identified by docket identification (ID) number EPA-HQ-OPP-2025-1906, through the https://www.regulations.gov. Follow the online instructions for submitting comments. Do not submit electronically any information you consider to be CBI or other information whose disclosure is restricted by statute. Additional instructions on commenting or visiting the docket, along with more information about dockets generally, is available at https://www.epa.gov/dockets.

FOR FURTHER INFORMATION CONTACT: Natalie Bray, Pesticide Registration Division (7505T), Office of Pesticide Programs, Environmental Protection Agency, 1200 Pennsylvania Ave. NW, Washington, DC 20460-0001; telephone number: (202) 566-2222; email address: Conservation_Programs@epa.gov.

SUPPLEMENTARY INFORMATION:

I. General Information

A. Does this action apply to me?

This action is directed to organizations who administer soil and water conservation programs and organizations/individuals with expertise in the reduction of erosion and runoff on agricultural land who advise or offer consulting services to growers/landowners. Additionally, growers and commercial applicators who apply pesticides and the general public may be interested in this action. Since a potentially broad range of entities may be interested in this action, the Agency has not attempted to describe all the specific entities that may be interested. If you have any questions regarding the applicability of this guidance to a particular entity or registration action, contact the person listed under FOR FURTHER INFORMATION CONTACT.

B. What is the Agency's authority for taking this action?

EPA is issuing this guidance pursuant to the Federal Insecticide, Fungicide, and Rodenticide Act (FIFRA) (7 U.S.C. 136a, et seq.).

II. What guidance does this PR Notice provide?

The Agency is announcing the availability of a draft PR Notice entitled “Process to Become an EPA Qualified Conservation Program (QCP) and Qualified External Party (QEP).” PR Notices are issued by OPP to inform pesticide registrants and other interested persons about important policies, procedures, and registration related decisions, and serve to provide guidance to pesticide registrants and OPP personnel. EPA is announcing the availability of and seeking public comment on this draft PR Notice.

This draft PR Notice seeks to inform interested parties of (1) the proposed process of becoming an EPA QCP or EPA QEP and to solicit public comment on the proposed process, and (2) communicate the estimated paperwork burden that this process would create for the public and to solicit public comment on these estimates pursuant to the Paperwork Reduction Act.

For this draft PR Notice, interested parties primarily include conservation programs, growers and other members of the agricultural community who support or consult growers when utilizing pesticides.

III. What type of feedback is the EPA soliciting?

EPA seeks comment on the following:

A. How can EPA improve its proposed process to review and approve QCPs and QEPs?

• The EPA would like feedback on the two applications described in the draft PR Notice. Specifically, are the instructions and questions in the applications clear? If not, please feel free to provide suggestions of how to clarify the instructions or questions.

• Do any questions appear redundant or otherwise unnecessary for EPA to judge the quality of the program or organization/individual?

• The Agency is considering expanding this process to also qualify conservation programs and external parties that support non-agricultural (e.g., turf, nursery/ornamentals, forestry, rights of way) uses. Additionally, the EPA intends to develop a mitigation menu for non-agricultural uses. However, this menu has not yet been developed. Are there conservation programs that cover non-agricultural use sites that could want to be qualified? Would there be value to qualify external parties for non-agricultural use sites? If yes to either of these questions, would the applications in their current form be relevant for these programs or parties seeking qualification?

• Is there other or additional information that EPA should request to judge the program?

B. What information on the burden estimates associated with completion of the application can stakeholders provide?

• What amount of time would it take you or staff members in your organization to complete the application (please assign number of hours for each staff level involved—manager type, technical type and clerical type)?

• EPA has estimated the burden to complete these applications to be 56 hours total time, see Information Collection Request Supporting Statement for more details of this estimate. If your estimate is significantly different from this estimate, please explain why yours is different and if you anticipate your estimate is more likely to represent the typical entity who may apply or not.

C. What types of information can stakeholders provide for EPA to anticipate the level of interest to better plan for resource requirements?

• How many programs/organizations/individuals provide these services in your area? Please provide separate estimates for each group.

• Given the burden that it would take to complete the applications, how likely is it that you or your program organization will apply to become an QCP or QEP?

• Do you think other organizations/individuals like yours would find it worth the effort to also apply?

D. How can the Agency implement programs be subject to a re-review process on a 5-year cycle? Additionally, if any elements of the program changes at any point the Agency proposes that the program or organization/individual is responsible for notifying EPA.

• Please provide comments on the proposed re-review process. Should it occur? Is the process as described clear?

• Is 5-years an appropriate length of time for approvals to remain valid? If not, what time frame would be more appropriate for a re-review process and why?

E. How can the Agency's proposed process revoke qualifying status if a QCP or QEP if it is found to be operating in a manner that does not align with Agency expectations or in line with the information previously submitted in its application?

• Please comment on the proposed process to revoke status as QCP and QEP? Are there additional elements the Agency should consider?

• The Agency would like to receive detailed input as to the extent states should be involved in any element of the proposed process.

• What elements of the process should the states be included and why? If they should be included, please estimate how much time would be involved in reviewing or helping to prepare applications for the associated paperwork burden to account for state involvement.

IV. Do PR Notices contain binding requirements?

The requirements in the relevant statutes and Agency regulations may be binding, however, this PR Notice is not binding on either EPA or potential QCP or QEP applicants. The EPA may depart from the process where circumstances warrant and without prior notice. Likewise, relevant stakeholders may assert that the process is not appropriate generally or not applicable to their work or situation.

V. Are these forms approved under the Paperwork Reduction Act (PRA)?

According to the PRA, 44 U.S.C. 3501 et seq., an agency may not conduct or sponsor, and a person is not required to respond to a collection of information that requires approval under the PRA, unless it has been approved by the Office of Management and Budget (OMB) and displays a currently valid OMB control number. The information collection activities described in this draft PR Notice are being addressed in the new ICR entitled “Process to Become an EPA Qualified Conservation Program (QCP) and Qualified External Party (QEP),” identified as EPA ICR No. 7807.01, that is included in the docket for public review and comment. EPA welcomes comment and will review public comments received on all materials including (1) the ICR (including public estimates of burden), (2) the draft PR Notice, and (3) the two applications. EPA will consider all public comments received and update all materials as appropriate for a second public review and comment period. After the second comment period, the Agency will provide a summary response and may make final updates to all relevant materials, if deemed necessary. Finally, EPA will submit all relevant materials for OMB for review and approval under the PRA and issue a final PR Notice.

(Authority: 7 U.S.C. 136 et seq.)

Dated: December 23, 2025.
Nancy B. Beck,
Principal Deputy Assistant Administrator, Office of Chemical Safety and Pollution Prevention.

[FR Doc. 2025-24252 Filed 1-2-26; 8:45 am]

BILLING CODE 6560-50-P